DEPARTMENT OF JUSTICE

Notice of Lodging Proposed Consent Decree

In accordance with Departmental Policy, 28 CFR 50.7, notice is hereby given that a proposed Consent Decree in Gasco Energy, Inc. v. Environmental Protection Agency and United States v. Gasco Energy, Inc., Civil Action No. 1:12-cv-1658-MSK-BNB, was lodged with the United States District Court for the District of Colorado on February 4, 2014.

This proposed Consent Decree concerns a complaint filed by Gasco Energy, Inc. (“Gasco”) under the Administrative Procedure Act, 5 U.S.C. 706, that seeks judicial review of an administrative order EPA issued to Gasco under Section 309 of the Clean Water Act, 33 U.S.C. 1319, and counterclaims filed by the United States and Intervenor Southern Utah Wilderness Alliance against Gasco under Sections 309(b) and (d) of the Clean Water Act, 33 U.S.C. 1319(b) and (d), to obtain injunctive relief from and impose civil penalties against Gasco for violating the Clean Water Act by discharging pollutants without a permit into waters of the United States. The proposed Consent Decree resolves these allegations by requiring Gasco to restore the impacted areas and to pay a civil penalty.

The Department of Justice will accept written comments relating to this proposed Consent Decree for thirty (30) days from the date of publication of this Notice. Please address comments to Alan D. Greenberg, United States Department of Justice, Environmental Defense Section, 999 18th Street, Suite 370—South Terrace, Denver, CO 80202 and refer to United States v. Gasco Energy, Inc., DJ # 90-5-1-1-19544.

The proposed Consent Decree may be examined at the Clerk's Office, United States District Court for the District of Colorado, Alfred A. Arraj United States Courthouse, Room A105, 901 19th Street, Denver, CO 80294. In addition, the proposed Consent Decree may be examined electronically at http://www.justice.gov/enrd/Consent_Decrees.html.

Cherie L. Rogers,
Assistant Section Chief, Environmental Defense Section, Environment and Natural Resources Division.

[FR Doc. 2014-02861 Filed 2-10-14; 8:45 am]

BILLING CODE 4410-CW-P